DEPARTMENT OF STATE

[Delegation of Authority No. 531]

Delegation of Authority Under Section 602(b)(1) of the Afghan Allies Protection Act of 2009, as Amended

By virtue of the authority vested in the Secretary of State by the laws of the United States, including 22 U.S.C. 2651a(a)(4), the Immigration and Nationality Act (“INA”), and section 602(b)(1) of the Afghan Allies Protection Act of 2009, as amended (Pub.L. 111-8) (“AAPA”), I hereby delegate the following authorities:

1. To the Chief of Mission Afghanistan (“COM”), and that individual's designee pursuant to section 602(b)(2)(D)(i) of the AAPA (“COM Designee”), the authority to approve any signed Form DS-157 filed pursuant to the AAPA as a petition for classification as a special immigrant under INA section 203(b)(4) (8 U.S.C. 1153(b)(4)), after determining applicable requirements are met.

2. To the COM, and the COM Designee, the authority to conditionally approve as a petition for classification as a special immigrant under INA section 203(b)(4) any unsigned Form DS-157 filed pursuant to the AAPA, after determining applicable requirements are met.

3. To consular officers, the authority to approve as a petition for classification as a special immigrant under INA section 203(b)(4) any DS-157 conditionally approved by the Secretary, the COM, or the COM Designee, that was submitted to the COM or the COM designee and is electronically signed before the consular officer.

The authority delegated herein may be exercised by the Secretary, Deputy Secretary, the Deputy Secretary for Management and Resources, and the Under Secretary for Management.

This delegation of authority shall be published in the Federal Register.

Dated: May 31, 2022.
Antony J. Blinken,
Secretary of State, Department of State.

Editorial Note: This document was received for publication by the Office of the Federal Register on Thursday, September 1, 2022.

[FR Doc. 2022-19326 Filed 9-7-22; 8:45 am]

BILLING CODE 4710-13-P